DEPARTMENT OF AGRICULTURE

Agricultural Research Service

Notice of Federal Invention Available for Licensing and Intent To Grant Exclusive License

AGENCY: Agricultural Research Service, USDA.

ACTION: Notice of availability and intent.

SUMMARY: Notice is hereby given that the following Federally owned inventions are available for licensing and that the U.S. Department of Agriculture, Agricultural Research Service intends to grant to the University of Hawaii of Honolulu, Hawaii, and the Cornell Research Foundation of Ithaca, New York, an exclusive license to the following papaya varieties.

‘‘UH Rainbow,” as disclosed in U.S. Plant Patent Application Serial No. 09/301,389, filed on April 28, 1999; and

‘‘UH Sunup,” as disclosed in U.S. Plant Patent Application Serial No. 09/300,960, filed on April 28, 1999; and

‘‘Laie Gold,” as disclosed in U.S. Plant Patent Application Serial No. 09/446,769, filed on November 22, 1999; and

‘‘Poamoho Gold,” as disclosed in U.S. Plant Patent Application Serial No. 09/490,039, filed on January 24, 2000.

DATES: Comments must be received on or before July 31, 2000.

ADDRESSES: Send comments to: USDA, ARS, Office of Technology Transfer, 5601 Sunnyside Avenue, Room 4-1158, Beltsville, Maryland 20705-5131.

FOR FURTHER INFORMATION CONTACT: June Blalock of the Office of Technology Transfer at the Beltsville address given above; telephone: 301-504-5989.

SUPPLEMENTARY INFORMATION: The Federal Government's intellectual property rights to these inventions are assigned to the United States of America, as represented by the Secretary of Agriculture. It is in the public interest to so license these inventions as the University of Hawaii and the Cornell Research Foundation have submitted a complete and sufficient application for a license. The prospective exclusive license will be royalty-bearing and will comply with the terms and conditions of 35 U.S.C. 209 and 37 CFR 404.7. The prospective exclusive license may be granted unless, within ninety (90) days from the date of this published Notice, the Agricultural Research Service receives written evidence and argument which establishes that the grant of the license would not be consistent with the requirements of 35 U.S.C. 209 and 37 CFR 404.7.

Richard M. Parry, Jr.,
Assistant Administrator.

[FR Doc. 00-10865 Filed 5-1-00; 8:45 am]

BILLING CODE 3410-03-P